DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama: Madison (FEMA Docket No.: B-7788) | City of Huntsville (08-04-1223P) | May 2, 2008; May 9, 2008; Madison County Record | The Honorable Loretta Spencer, Mayor, City of Huntsville, 308 Fountain Circle, Huntsville, AL 35801 | April 29, 2008 | 010153
Arizona:
Coconino (FEMA Docket No.: B-7785) | Unincorporated areas of Coconino County (07-09-1875P) | April 23, 2008; April 30, 2008; Arizona Daily Sun | The Honorable Deb Hill, Chairman, Coconino County Board of Supervisors, 219 East Cherry Avenue, Flagstaff, AZ 86001 | April 15, 2008 | 040019
Yavapai (FEMA Docket No.: B-7785) | Town of Prescott Valley (07-09-1655P) | April 21, 2008; April 28, 2008; Prescott Daily Courier | The Honorable Harvey C. Skoog, Mayor, Town of Prescott Valley, 7501 East Civic Circle, Prescott Valley, AZ 86314 | April 14, 2008 | 040121
Yavapai (FEMA Docket No.: B-7785) | Unincorporated areas of Yavapai County (07-09-1655P) | April 21, 2008; April 28, 2008; Prescott Daily Courier | The Honorable Chip Davis, Chairman, Yavapai County Board of Supervisors, 1015 Fair Street, Prescott, AZ 86305 | April 14, 2008 | 040093
Colorado:
Jefferson (FEMA Docket No.: B-7780) | City of Lakewood (08-08-0276P) | April 10, 2008; April 17, 2008; The Golden Transcript | The Honorable Bob Murphy, Mayor, City of Lakewood, 480 South Allison Parkway, Lakewood, CO 80226-3127 | August 18, 2008 | 085075
Jefferson (FEMA Docket No.: B-7780) | City of Wheat Ridge (08-08-0276P) | April 10, 2008; April 17, 2008; The Golden Transcript | The Honorable Jerry DiTullio, Mayor, City of Wheat Ridge, 7500 West 29th Avenue, Wheat Ridge, CO 80033 | August 18, 2008 | 085079
Connecticut: New Haven (FEMA Docket No.: B-7785) | City of New Haven (07-01-1096P) | April 24, 2008; May 1, 2008; New Haven Register | The Honorable John DeStefano, Jr., Mayor, City of New Haven, 165 Church Street, New Haven, CT 06510 | April 17, 2008 | 090084
Hawaii:
Hawaii (FEMA Docket No.: B-7780) | Unincorporated areas of Hawaii County (08-09-0081P) | April 3, 2008; April 10, 2008; Hawaii Tribune-Herald | The Honorable Harry Kim, Mayor, Hawaii County, 25 Aupuni Street, Room 215, Hilo, HI 96720 | August 8, 2008 | 155166
Maui (FEMA Docket No.: B-7797) | Unincorporated areas of Maui County (07-09-1848P) | February 21, 2008; February 28, 2008; Maui News | The Honorable Charmaine Tavares, Mayor, Maui County, 200 South High Street, Wailuku, HI 96793 | February 12, 2008 | 150003
Illinois: DuPage (FEMA Docket No.: B-7780) | Village of Glen Ellyn (08-05-1365P) | April 11, 2008; April 18, 2008; Wheaton Sun | The Honorable Gregory S. Mathews, President, Village of Glen Ellyn, 535 Duane Street, Glen Ellyn, IL 60137 | August 18, 2008 | 170207
Massachusetts: Barnstable (FEMA Docket No.: B-7780) | Town of Falmouth (07-01-1083P) | April 3, 2008; April 10, 2008; Cape Cod Times | The Honorable Kevin E. Murphy, Chairman, Board of Selectmen, 59 Town Hall Square, Falmouth, MA 02540 | August 8, 2008 | 255211
Minnesota:
Olmsted (FEMA Docket No.: B-7785) | Unincorporated areas of Olmsted Count (07-05-4071P) | April 10, 2008; April 17, 2008; Post Bulletin | The Honorable Ken Brown, Commissioner, Olmsted County Board of Commissioners, 151 Fourth Street Southeast, Rochester, MN 55904 | August 18, 2008 | 270626
Olmsted (FEMA Docket No.: B-7785) | City of Rochester (07-05-4071P) | April 10, 2008; April 17, 2008; Post Bulletin | The Honorable Ardell F. Brede, Mayor, City of Rochester, 201 Fourth Street Southeast, Room 281, Rochester, MN 55904 | August 18, 2008 | 275246
Sherburne (FEMA Docket No.: B-7788) | City of Elk River (08-05-0592P) | April 16, 2008; April 23, 2008; Star News | The Honorable Stephanie Klinzing, Mayor, City of Elk River, 13065 Orono Parkway, Elk River, MN 55330 | August 15, 2008 | 270436
Missouri:
Cass (FEMA Docket No.: B-7776) | City of Harrisonville (07-07-1674P) | March 28, 2008; April 4, 2008; Democrat Missourian | The Honorable Kevin W. Wood, Mayor, City of Harrisonville, 300 East Pearl Street, Harrisonville, MO 64701 | August 4, 2008 | 290068
Jackson (FEMA Docket No.: B-7780) | City of Grain Valley (07-07-1749P) | April 7, 2008; April 14, 2008; The Blue Springs Examiner | The Honorable David Halphin, Mayor, City of Grain Valley, 711 Main Street, Grain Valley, MO 64029 | August 14, 2008 | 290737
Ohio:
Franklin (FEMA Docket No.: B-7788) | City of Columbus (07-05-1194P) | April 10, 2008; April 17, 2008; Columbus Dispatch | The Honorable Michael B. Coleman, Mayor, City of Columbus, 90 West Broad Street, Columbus, OH 43215 | August 18, 2008 | 390170
Franklin (FEMA Docket No.: B-7788) | Unincorporated areas of Franklin County (07-05-1194P) | April 10, 2008; April 17, 2008; Columbus Dispatch | The Honorable Marilyn Brown, President, Franklin County, Board of Commissioners, 373 South High Street, 26th Floor, Columbus, OH 43215 | August 18, 2008 | 390167
Warren (FEMA Docket No.: B-7785) | Village of Monroe (07-05-2593P) | April 10, 2008; April 17, 2008; Pulse Journal | The Honorable Robert Routson, Mayor, City of Monroe, P.O. Box 330, Monroe, OH 45050-0330 | August 18, 2008 | 390042
Texas:
Bexar (FEMA Docket No.: B-7788) | City of San Antonio (08-06-0040P) | May 5, 2008; May 12, 2008; San Antonio Express-News | The Honorable Phil Hardberger, Mayor, City of San Antonio, P.O. Box 839966, San Antonio, TX 78283 | April 28, 2008 | 480045
Collin (FEMA Docket No.: B-7780) | Town of Prosper (08-06-0164P) | April 3, 2008; April 10, 2008; Allen American | The Honorable Charles Niswanger, Mayor, Town of Prosper, P.O. Box 307, Prosper, TX 75078 | August 8, 2008 | 480141
Denton (FEMA Docket No.: B-7785) | City of Roanoke (07-06-2276P) | May 1, 2008; May 8, 2008; Denton County Chronicle | The Honorable Carl E. Gierisch, Jr., Mayor, City of Roanoke, 108 South Oak Street, Roanoke, TX 76262 | April 28, 2008 | 480785
Parker (FEMA Docket No.: B-7789) | Unincorporated areas of Parker County (08-06-0872P) | May 7, 2008; May 14, 2008; Weatherford Democrat | The Honorable Mark Riley, Parker County Judge, One Courthouse Square, Weatherford, TX 76086 | April 29, 2008 | 480520
Tarrant (FEMA Docket No.: B-7780) | City of Keller (08-06-0002P) | March 28, 2008; April 4, 2008; Keller Citizen | The Honorable Pat McGrail, Mayor, City of Keller, P.O. Box 770, Keller, TX 76244 | August 4, 2008 | 480602
Travis (FEMA Docket No.: B-7780) | Unincorporated areas of Travis County (07-06-1238P) | April 3, 2008; April 10, 2008; Austin American-Statesman | The Honorable Samuel T. Biscoe, Travis County Judge, 314 West 11th Street, Suite 520, Austin, TX 78701 | August 8, 2008 | 481026

(Catalog of Federal Domestic Assistance No. 97.022, “Flood Insurance.”)

Dated: September 4, 2008.
Michael K. Buckley,
Deputy Assistant Administrator for Mitigation, Department of Homeland Security, Federal Emergency Management Agency.

[FR Doc. E8-21685 Filed 9-18-08; 8:45 am]

BILLING CODE 9110-12-P